DEPARTMENT OF HEALTH AND HUMAN SERVICES

Health Care Financing Administration

42 CFR Parts 441 and 483

[HCFA-2065-F]

RIN 0938-AJ96

Medicare Program; Use of Restraint and Seclusion in Residential Treatment Facilities Providing Inpatient Psychiatric Services to Individuals Under Age 21: Delay of Effective Date

AGENCY: Health Care Financing Administration (HCFA), HHS.

ACTION: Interim final rule; delay of effective date.

SUMMARY: In accordance with the memorandum of January 20, 2001, from the Assistant to the President and Chief of Staff, entitled “Regulatory Review Plan,” published in the January 24, 2001 Federal Register, this action temporarily delays for 60 days the effective date of the interim final rule entitled “Use of Restraint and Seclusion in Residential Treatment Facilities Providing Inpatient Psychiatric Service to Individuals Under Age 21” published in the January 22, 2001 Federal Register (66 FR 7148). That interim final rule establishes a definition of a “psychiatric residential treatment facility” that is not a hospital and that may furnish covered Medicaid inpatient psychiatric services for individuals under age 21. This rule also sets forth a Condition of Participation that psychiatric residential treatment facilities that are not hospitals must meet to provide, or to continue to provide, the Medicaid inpatient psychiatric services benefit to individuals under age 21. The effective date of that rule, which would have been March 23, 2001, is now May 22, 2001. The temporary 60-day delay in effective date is necessary to give Department officials the opportunity for further review and consideration of new regulations, consistent with the Assistant to the President's memorandum of January 20, 2001. To the extent that 5 U.S.C. section 553 applies to this action, it is exempt from notice and comment because it constitutes a rule of procedure under 5 U.S.C. section 553(b)(3)(a). Alternatively, HCFA's implementation of this rule without opportunity for public comment, effective immediately upon publication today in the Federal Register, is based on the good cause exceptions in 5 U.S.C. section 553(b)(3)(B) and 553(d)(3), in that seeking public comment is impracticable, unnecessary, and contrary to the public interest. Given the imminence of the effective date, seeking prior public comment on this temporary delay would have been impractical, as well as contrary to the public interest, in the orderly promulgation and implementation of regulations.

DATES: The effective date of the interim final rule amending 42 CFR parts 441 and 483 published in the January 22, 2001 Federal Register (66 FR 7148), is delayed 60 days, from March 23, 2001 to a new effective date of May 22, 2001.

FOR FURTHER INFORMATION CONTACT: Mary Kay Mullen, (410) 786-5480.

(Catalog of Federal Domestic Assistance Program No. 93.778, Medical Assistance Program).

Dated: February 27, 2001.
Michael McMullan,
Acting Deputy Administrator, Health Care Financing Administration.
Approved: January 14, 2001.
Tommy G. Thompson,
Secretary.

[FR Doc. 01-7033 Filed 3-20-01; 8:45 am]

BILLING CODE 4120-01-M